NATIONAL AERONAUTICS AND SPACE ADMINISTRATION

[Notice 05-106]

NASA Advisory Council, Planetary Protection Advisory Committee; Meeting

AGENCY: National Aeronautics and Space Administration.

ACTION: Notice of meeting.

SUMMARY: In accordance with the Federal Advisory Committee Act, Public Law 92-463, as amended, the National Aeronautics and Space Administration announces a forthcoming meeting of the NASA Advisory Council (NAC), Planetary Protection Advisory Committee (PPAC).

DATES: Tuesday, July 26, 2005, 8:30 a.m. to 5:30 p.m., and Wednesday, July 27, 2005, 8:30 a.m. to 4:30 p.m.

ADDRESSES: University of Maryland Inn and Conference Center, 3501 University Boulevard, East, Adelphi, MD 20783.

FOR FURTHER INFORMATION CONTACT: Ms. Marian Norris, Science Mission Directorate, National Aeronautics and Space Administration, Washington, DC 20546, (202) 358-4452, e-mail mnorris@nasa.gov.

SUPPLEMENTARY INFORMATION: The meeting will be open to the public up to the capacity of the room. The agenda for the meeting includes the following topics:

—Planetary Protection Program Update

—Solar System Exploration Overview

—Mars Forward Contamination Requirements

—Mars Mission Implementation Status

—Mars Sample Return Mission, Planning, and Status

—Future Outer Planet Missions

—Planning for Future Human Missions to the Moon and Mars

Attendees will be requested to sign a register. It is imperative that the meeting be held on these dates to accommodate the scheduling priorities of the key participants.

P. Diane Rausch,
Advisory Committee Management Officer, National Aeronautics and Space Administration.

[FR Doc. 05-12595 Filed 6-23-05; 8:45 am]

BILLING CODE 7510-13-P